DEPARTMENT OF ENERGY

Federal Energy Regulatory Commission

[Docket No. ER00-771-003, et al.]

Tucson Electric Power Company, et al.; Electric Rate and Corporate Regulation Filings

April 3, 2000.

Take notice that the following filings have been made with the Commission:

1. Tucson Electric Power Company

[Docket No. ER00-771-003]

Take notice that on March 29, 2000, Tucson Electric Power Company (Tucson), tendered for filing an amendment to its March 9, 2000 compliance filing.

Comment date: April 19, 2000, in accordance with Standard Paragraph E at the end of this notice.

2. Southwest Power Pool, Inc.

[Docket No. ER00-1829-000]

Take notice that on March 28, 2000, Southwest Power Pool, Inc. (SPP), tendered for filing revised requested effective dates of January 1, 2001, January 1, 2002, and January 1, 2003, respectively, for three executed service agreements for firm point-to-point transmission service under the SPP Tariff with Tenaska Power Services Company (Tenaska).

SPP states that the revised requested effective dates correspond to the actual dates service is to commence under each of the three agreements and that those dates replace the effective dates inadvertently requested when the agreements were filed in Docket No. ER00-1829-000 on March 7, 2000.

Copies of this filing were served upon Tenaska and Entergy Power Marketing Corporation (Entergy).

Comment date: April 19, 2000, in accordance with Standard Paragraph E at the end of this notice.

3. Southern California Edison Company

[Docket No. ER98-441-018]

Take notice that on March 28, 2000, Reliant Energy Etiwanda, LLC and Reliant Energy Mandalay, LLC tendered for filing a compliance report regarding refunds as required by the Commission's Order issued January 31, 2000 approving the Stipulation and Agreement filed in the above-captioned proceeding on September 8, 1999.

Comment date: April 18, 2000, in accordance with Standard Paragraph E at the end of this notice.

4. Florida Power & Light Company

[Docket No. ER99-723-003]

Take notice that on March 28, 2000, Florida Power & Light Company tendered for filing a compliance report showing monthly refunds required under the Commission order approving a settlement in this docket.

Comment date: April 18, 2000, in accordance with Standard Paragraph E at the end of this notice.

5. Cinergy Services, Inc.

[Docket No. ER00-1984-000]

Take notice that on March 28, 2000, Cinergy Services, Inc., tendered for filing an Interconnection Agreement entered into by and between Cinergy Services, Inc. (Cinergy) and WestFork Land Development Company, LLC (WestFork) dated as of March 9, 2000.

The Interconnection Agreement between the parties provides for the interconnection of the Wheatland Facility to the 345 kV transmission line from the Gibson Generating Station to the Qualitech Substation, both of which substations are owned by PSI Energy, Inc., a Cinergy utility operating company. In addition, the Interconnection Agreement sets forth the entire agreement and understanding of the parties and further defines the continuing responsibilities and obligations of the parties with respect thereto.

Cinergy states that it has served a copy of its filing upon the Indiana Utility Regulatory Commission and Enron North America.

Comment date: April 18, 2000, in accordance with Standard Paragraph E at the end of this notice.

6. Allegheny Energy Service Corporation on behalf of Allegheny Energy Supply Company, LLC

[Docket No. ER00-1985-000]

Take notice that on March 28 , 2000, Allegheny Energy Service Corporation on behalf of Allegheny Energy Supply Company, LLC (Allegheny Energy Supply), tendered for filing Supplement No. 30 to add one (1) new Customer to the Market Rate Tariff under which Allegheny Energy Supply offers generation services.

Allegheny Energy Supply requests a waiver of notice requirements to make service available as of January 21, 2000 or on a date as determined by the Commission to Ameren Services Company.

Copies of the filing have been provided to the Public Utilities Commission of Ohio, the Pennsylvania Public Utility Commission, the Maryland Public Service Commission, the Virginia State Corporation Commission, the West Virginia Public Service Commission, and all parties of record.

Comment date: April 18, 2000, in accordance with Standard Paragraph E at the end of this notice.

7. Allegheny Energy Service Corporation on behalf of Allegheny Energy Supply Company, LLC

[Docket No. ER00-1986-000]

Take notice that on March 28, 2000, Allegheny Energy Service Corporation on behalf of Allegheny Energy Supply Company, LLC (Allegheny Energy Supply), tendered for filing Supplement No. 34 to add one (1) new Customer to the Market Rate Tariff under which Allegheny Energy Supply offers generation services.

Allegheny Energy Supply requests a waiver of notice requirements to make service available as of February 18, 2000 or on a date as determined by the Commission to GPU Energy.

Copies of the filing have been provided to the Public Utilities Commission of Ohio, the Pennsylvania Public Utility Commission, the Maryland Public Service Commission, the Virginia State Corporation Commission, the West Virginia Public Service Commission, and all parties of record.

Comment date: April 19, 2000, in accordance with Standard Paragraph E at the end of this notice.

8. Allegheny Energy Service Corporation on behalf of Allegheny Energy Supply Company, LLC

[Docket No. ER00-1987-000]

Take notice that on March 28 , 2000, Allegheny Energy Service Corporation on behalf of Allegheny Energy Supply Company, LLC (Allegheny Energy Supply), tendered for filing Supplement No. 32 to add one (1) new Customer to the Market Rate Tariff under which Allegheny Energy Supply offers generation services.

Allegheny Energy Supply requests a waiver of notice requirements to make service available as of February 10, 2000 or on a date as determined by the Commission to CMS Marketing, Services & Trading Company.

Copies of the filing have been provided to the Public Utilities Commission of Ohio, the Pennsylvania Public Utility Commission, the Maryland Public Service Commission, the Virginia State Corporation Commission, the West Virginia Public Service Commission, and all parties of record.

Comment date: April 19, 2000, in accordance with Standard Paragraph E at the end of this notice.

9. Allegheny Energy Service Corporation on behalf of Allegheny Energy Supply Company, LLC

[Docket No. ER00-1988-000]

Take notice that on March 28, 2000, Allegheny Energy Service Corporation on behalf of Allegheny Energy Supply Company, LLC (Allegheny Energy Supply), tendered for filing Supplement No. 31 to add one (1) new Customer to the Market Rate Tariff under which Allegheny Energy Supply offers generation services.

Allegheny Energy Supply requests a waiver of notice requirements to make service available as of February 2, 2000 or on a date as determined by the Commission to Cargill-Alliant, LLC.

Copies of the filing have been provided to the Public Utilities Commission of Ohio, the Pennsylvania Public Utility Commission, the Maryland Public Service Commission, the Virginia State Corporation Commission, the West Virginia Public Service Commission, and all parties of record.

Comment date: April 18, 2000, in accordance with Standard Paragraph E at the end of this notice.

10. Allegheny Energy Service Corporation on behalf of Allegheny Energy Supply Company, LLC

[Docket No. ER00-1989-000]

Take notice that on March 28, 2000, Allegheny Energy Service Corporation on behalf of Allegheny Energy Supply Company, LLC (Allegheny Energy Supply), tendered for filing Supplement No. 33 to add one (1) new Customer to the Market Rate Tariff under which Allegheny Energy Supply offers generation services.

Allegheny Energy Supply requests a waiver of notice requirements to make service available as of February 17, 2000 or on a date as determined by the Commission to Southern Company Services Inc.

Copies of the filing have been provided to the Public Utilities Commission of Ohio, the Pennsylvania Public Utility Commission, the Maryland Public Service Commission, the Virginia State Corporation Commission, the West Virginia Public Service Commission, and all parties of record.

Comment date: April 18, 2000, in accordance with Standard Paragraph E at the end of this notice.

11. Allegheny Energy Service Corporation on behalf of Allegheny Energy Supply Company, LLC

[Docket No. ER00-1990-000]

Take notice that on March 28 , 2000, Allegheny Energy Service Corporation on behalf of Allegheny Energy Supply Company, LLC (Allegheny Energy Supply), tendered for filing Supplement No. 29 to add one (1) new Customer to the Market Rate Tariff under which Allegheny Energy Supply offers generation services.

Allegheny Energy Supply requests a waiver of notice requirements to make service available as of January 8, 2000 or on a date as determined by the Commission to Illinois Power Company.

Copies of the filing have been provided to the Public Utilities Commission of Ohio, the Pennsylvania Public Utility Commission, the Maryland Public Service Commission, the Virginia State Corporation Commission, the West Virginia Public Service Commission, and all parties of record.

Comment date: April 18, 2000, in accordance with Standard Paragraph E at the end of this notice.

12. PPL Electric Utilities Corporation

[Docket No. ER00-1997-000]

Take notice that on March 29, 2000, PPL Electric Utilities Corporation (formerly PP&L, Inc.) (PPL Utilities), tendered for filing the Susquehanna Steam Electric Station Transmission Agreement between PPL Utilities and Allegheny Electric Cooperative, Inc. (Allegheny), dated March 18, 1977.

PPL Utilities has served a copy of this filing on Allegheny.

Comment date: April 19, 2000, in accordance with Standard Paragraph E at the end of this notice.

13. Allegheny Energy Service Corporation, on behalf of Allegheny Energy Supply Company, LLC

[Docket No. ER00-1998-000]

Take notice that on March 29, 2000, Allegheny Energy Service Corporation on behalf of Allegheny Energy Supply Company, LLC (Allegheny Energy Supply), tendered for filing Amendment No. 2 to Supplement No. 5 to the Market Rate Tariff to incorporate a Netting Agreement with American Electric Power Service Corporation into the tariff provisions.

Allegheny Energy Supply Company requests a waiver of notice requirements to make the Amendment effective as of March 22, 2000.

Copies of the filing have been provided to the Public Utilities Commission of Ohio, the Pennsylvania Public Utility Commission, the Maryland Public Service Commission, the Virginia State Corporation Commission, the West Virginia Public Service Commission, and all parties of record.

Comment date: April 19, 2000, in accordance with Standard Paragraph E at the end of this notice.

14. Allegheny Energy Service Corporation, on Behalf of Allegheny Energy Supply Company, LLC

[Docket No. ER00-1999-000]

Take notice that on March 29, 2000, Allegheny Energy Service Corporation on behalf of Allegheny Energy Supply Company, LLC (Allegheny Energy Supply), tendered for filing Amendment No. 4 to Supplement No. 9 to the Market Rate Tariff to incorporate a Netting Agreement with Strategic Energy, LLC into the tariff provisions.

Allegheny Energy Supply Company requests a waiver of notice requirements to make the Amendment effective as of March 6, 2000.

Copies of the filing have been provided to the Public Utilities Commission of Ohio, the Pennsylvania Public Utility Commission, the Maryland Public Service Commission, the Virginia State Corporation Commission, the West Virginia Public Service Commission, and all parties of record.

Comment date: April 19, 2000, in accordance with Standard Paragraph E at the end of this notice.

15. Cleco Utility Group, Inc.

[Docket No. ER00-2000-000]

Take notice that on March 29, 2000, Cleco Utility Group, Inc., Transmission Services tendered for filing, pursuant to Section 205 of the Federal Power Act, a network integration transmission service agreement and a network operating agreement with an internal division of itself, Cleco Utility Group, Inc., Retail Energy Services, establishing the provision of network transmission service to serve the city of Gueydan, Louisiana under the existing Cleco Utility Group, Inc., open access transmission tariff.

Cleco Utility Group, Inc., requests an effective date for these agreements under its open access transmission tariff of March 31, 2000.

Comment date: April 19, 2000, in accordance with Standard Paragraph E at the end of this notice.

16. American Electric Power Service Corporation

[Docket No. ER00-2001-000]

Take notice that on March 29, 2000, the American Electric Power Service Corporation (AEPSC), tendered for filing blanket service agreements by the AEP Companies under the Wholesale Market Tariff of the AEP Operating Companies (Power Sales Tariff). The Power Sales Tariff was accepted for filing effective October 10, 1997 and has been designated AEP Operating Companies' FERC Electric Tariff Original Volume No. 5.

AEPSC respectfully requests waiver of notice to permit the service agreements to be made effective as specified in the submittal letter to the Commission with this filing.

A copy of the filing was served upon the Parties and the State Utility Regulatory Commissions of Indiana, Kentucky, Michigan, Ohio, Tennessee, Virginia and West Virginia.

Comment date: April 19, 2000, in accordance with Standard Paragraph E at the end of this notice.

17. Detroit Edison Company

[Docket No. ER00-2002-000]

Take notice that on March 29, 2000, Detroit Edison Company (Detroit Edison) tendered for filing Service Agreements for wholesale power sales transactions (the Service Agreements) under Detroit Edison's Wholesale Power Sales Tariff (WPS-2), FERC Electric Tariff No. 3 (the WPS-2 Tariff).

Comment date: April 19, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-9029 Filed 4-11-00; 8:45 am]

BILLING CODE 6717-01-P